DEPARTMENT OF THE INTERIOR

National Park Service

[NPS-WASO-NAGPRA-NPS0032218; PPWOCRADN0-PCU00RP14.R50000]

Notice of Inventory Completion: Ohio History Connection, Columbus, OH

AGENCY: National Park Service, Interior.

ACTION: Notice.

SUMMARY: The Ohio History Connection has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the Ohio History Connection. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Ohio History Connection at the address in this notice by August 5, 2021.

FOR FURTHER INFORMATION CONTACT: Nekole Alligood, NAGPRA Specialist, Ohio History Connection, 800 East 17th Avenue, Columbus, OH 43211, telephone (405) 933-7643, email nalligood@ohiohistory.org.

SUPPLEMENTARY INFORMATION: Notice is here given in accordance with the Native American Graves Protection and Repatriation Act (NAGPRA), 25 U.S.C. 3003, of the completion of an inventory of human remains under the control of the Ohio History Connection, Columbus, OH. The human remains were removed from an unknown location in Northern Montana.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Ohio History Connection professional staff in consultation with representatives of the Blackfeet Tribe of the Blackfeet Indian Reservation of Montana.

History and Description of the Remains

On or before January 14, 1921, human remains representing, at minimum, one individual were removed from an unknown location in Northern Montana by Dr. L.D. Frescoln of Philadelphia. On January 20, 1921, Dr. Frescoln donated the human remains to the Ohio Archaeological and Historical Society (now known as the Ohio History Connection). The human remains belong to an individual of unknown age and sex. No known individual was identified. No associated funerary objects are present.

Museum documentation and correspondence from Dr. Frescoln to Professor Mills, Curator of the Museum of Archaeology at the Ohio Archaeological and Historical Society at the time, identify the human remains as those of an individual from the “Piegan Tribe of Blackfeet, obtained from a tree burial in Northern Montana.”

Determinations Made by the Ohio History Connection

Officials of the Ohio History Connection have determined that:

• Pursuant to 25 U.S.C. 3001(9), the human remains described in this notice represent the physical remains of one individual of Native American ancestry.

• Pursuant to 25 U.S.C. 3001(2), there is a relationship of shared group identity that can be reasonably traced between the Native American human remains and the Blackfeet Tribe of the Blackfeet Indian Reservation of Montana.

Additional Requestors and Disposition

Lineal descendants or representatives of any Indian Tribe or Native Hawaiian organization not identified in this notice that wish to request transfer of control of these human remains should submit a written request with information in support of the request to Nekole Alligood, NAGPRA Specialist, Ohio History Connection, 800 East 17th Avenue, Columbus, OH 43211, telephone (405) 933-7643, email nalligood@ohiohistory.org, by August 5, 2021. After that date, if no additional requestors have come forward, transfer of control of the human remains to the Blackfeet Tribe of the Blackfeet Indian Reservation of Montana may proceed.

The Ohio History Connection is responsible for notifying the Blackfeet Tribe of the Blackfeet Indian Reservation of Montana that this notice has been published.

Dated: June 28, 2021.
Melanie O'Brien,
Manager, National NAGPRA Program.

[FR Doc. 2021-14311 Filed 7-2-21; 8:45 am]

BILLING CODE 4312-52-P